DEPARTMENT OF DEFENSE

Department of the Army

Draft Legislative Environmental Impact Statement Addressing Land Withdrawal Extension at Fort Wainwright, Alaska

AGENCY: Department of the Army, DOD.

ACTION: Notice of availability.

SUMMARY: The Department of the Army (Army) announces the availability of a Draft Legislative Environmental Impact Statement (LEIS) to address continued military use of the Yukon Training Area, near Fort Wainwright, Alaska, and Donnelly Training Area East and Donnelly Training Area West, near Delta Junction, Alaska. The current land withdrawal will expire on November 6, 2026, unless Congress enacts legislation to extend it. The Draft LEIS evaluates reasonable alternatives, potential environmental impacts, and key issues of concern. The LEIS will inform proposed legislation presented to Congress and Congress' decision regarding the Proposed Action. Comments received on the Draft LEIS will be fully considered and submitted as part of the legislative proposal. The comment period will last 60 days and will include virtual or in-person public meetings.

DATES: Comments must be received by July 11, 2023.

ADDRESSES: Please send written comments to Mr. Matt Sprau, Environmental Planning Branch Chief, at: Directorate of Public Works, ATTN: AMIM-AKP-E (M. Sprau), 1046 Marks Road #4500, Fort Wainwright, AK 99703-4500; email: usarmy.wainwright.id-pacific.mbx.lwe-leis@army.mil.

FOR FURTHER INFORMATION CONTACT: Please contact Mr. Grant Sattler, Public Affairs Office, at: AMIM-AKG-PA (Sattler), 1060 Gaffney Road #5900, Fort Wainwright, AK 99703-5900; telephone: (907) 353-6701; email: alan.g.sattler.civ@army.mil.

SUPPLEMENTARY INFORMATION: In October 1999, Congress—through the Military Lands Withdrawal Act (Public Law (Pub. L.) 106-65)—withdrew 869,862 acres of public land comprising Yukon Training Area, Donnelly Training Area East, and Donnelly Training Area West from all forms of appropriation under public land laws and reserved the acreage for use by the Army. The withdrawal extended to November 6, 2026. The Army determined there is a continuing military need for this land and is requesting to extend its use of the three training areas, which are federal lands managed by the Bureau of Land Management (BLM) that Congress has withdrawn and reserved for military use.

The Engle Act (Pub. L. 85-337; title 43, sections 155-158, United States Code) requires land withdrawals in excess of 5,000 acres to be authorized by Congress through legislation. The U.S. Department of the Interior (DOI) has authority to process federal land withdrawal applications (title 43, part 2300, Code of Federal Regulations (CFR)). The Military Lands Withdrawal Act requires the Army to notify the Secretary of the Interior and Congress regarding whether there is a continuing military need for the withdrawn land. If there is such a need, the Army and DOI shall submit a legislative proposal to Congress no later than May 1, 2025. BLM, a subordinate agency within DOI, agreed to participate in the LEIS process as a cooperating agency.

Fort Wainwright is in the interior of Alaska. It is located in the Fairbanks North Star Borough and is home to U.S. Army Garrison—Alaska and to units of the 11th Airborne Division. The Yukon Training Area covers approximately 246,277 acres and is located approximately 16 miles east-southeast of Fairbanks and immediately east of Eielson Air Force Base. Donnelly Training Areas East and West are located near Fort Greely. These areas are situated in the Tanana River Valley in central Alaska, approximately 80 miles southeast of Fort Wainwright, near the city of Delta Junction in the Southeast Fairbanks Census Area. Donnelly Training Area East is approximately 51,590 acres and Donnelly Training Area West is approximately 571,995 acres.

The purpose of the Proposed Action is to obtain an extension of the land withdrawal of the three training areas for 25 years or more, until such time as the Army determines it no longer needs the land for military purposes. The Army requires the continued use of the training areas on withdrawn land to execute and fulfill its mission in Alaska. Access to the withdrawn land enables the Army to produce a force trained to mobilize, deploy, fight, and win anywhere in the world. Army training conditions must match or closely resemble all possible environments throughout the world, including arctic and subarctic conditions. In addition to the Army's use of the withdrawn land, the U.S. Air Force plans, conducts, and coordinates air operations in the restricted airspace over the withdrawn land.

The Draft LEIS evaluates the reasonably foreseeable effects of multiple alternatives. The alternatives considered include: (1) requesting that Congress extend the land withdrawal for 25 years or more until such time as the Army determines it no longer needs the land for military purposes; and (2) a No-Action Alternative, under which the withdrawal would not be extended. Besides the first alternative above, there are no reasonable alternatives capable of meeting the project's purpose and need.

Resource areas and impacts analyzed in the Draft LEIS include, but are not limited to, the following: recreational uses of the withdrawn land; subsistence uses; air quality; noise; soil; water quality; biological resources; socioeconomics; public health and safety; archaeological sites and districts; traffic and transportation; land use; airspace; and hazardous materials. The Draft LEIS also identifies measures that would reduce or eliminate adverse impacts. BLM's findings regarding potential impacts on subsistence uses will—consistent with the requirements of section 810 of the Alaska National Interest Lands Conservation Act—be appended to the Draft LEIS. The Army coordinated with federal, state, and Tribal entities during development of the LEIS, including the U.S. Fish and Wildlife Service and BLM.

The No-Action Alternative could have significant economic impacts on the cities of Delta Junction and Fairbanks. Under the Proposed Action, there would be no change to training activities. The Draft LEIS identified ongoing, potential, moderate and minor adverse impacts on biological resources, cultural resources, water resources, air quality, and hazardous material levels resulting from the Proposed Action. The Army does not anticipate the Proposed Action causing any significant impacts.

The Army announced the release of the Draft LEIS through local media outlets, beginning a public comment period during which public meetings will be held in Delta Junction and Fairbanks. Pursuant to section 810(b) of the Alaska National Interest Lands Conservation Act (Pub. L. 96-487, title 16, section 3120, United States Code), the public meeting in Delta Junction will also serve as a public hearing on BLM's finding of potential impacts on subsistence uses. Following the 60-day public comment period, the Army will consider all comments and append them to the Draft LEIS for inclusion in the legislative proposal. Under title 40, part 1506, CFR, a Final EIS is not required in the LEIS process, and the Army will not prepare a Final EIS for this Proposed Action.

Federal, state, and local agencies, Alaska Native Tribes, Alaska Native Tribal organizations, and the general public are invited to participate in a public meeting and/or submit written comments. Written comments must be received within 60 days of publication of this Notice of Availability in the Federal Register. Public meetings will be held in a virtual environment, in person, or both. Dates and times will be advertised in local newspapers and will be posted online at: https://home.army.mil/alaska/index.php/fort-wainwright/NEPA.

James W. Satterwhite, Jr.,
Army Federal Register Liaison Officer.

[FR Doc. 2023-10144 Filed 5-11-23; 8:45 am]

BILLING CODE 3711-02-P